DEPARTMENT OF JUSTICE

Notice of Lodging Proposed Consent Decree

In accordance with Departmental Policy, 28 CFR 50.7, notice is hereby given that a proposed Consent Decree in United States v. Currahee Club, LLC, et al.. No. 06-CV-00113, was lodged with the United States District Court for the Northern District of Georgia on July 31, 2006.

This proposed Consent Decree concerns a complaint filed by the United States against Currahee Club, LLC, Currahee Partners, LLC, and Currahee Partners, II, LLC, pursuant to Sections 301 and 404 of the Clean Water Act, 33 U.S.C. 1311 and 1344, with respect to Defendants' alleged violations of the Clean Water Act by discharging pollutants into waters of the United States without a permit. The proposed Consent Decree resolves these allegations by requiring the restoration of off-site stream and wetlands properties in the upper Savannah River watershed and the payment of a civil penalty. The Department of Justice will accept written comments relating to this proposed Consent Decree for thirty (30) days from the date of publication of this Notice. Please address comments to Martin F. McDermott, United States Department of Justice, Environment and Natural Resources Division, Environmental Defense Section, P.O. Box 23986, Washington, DC 20006-3986 and refer to United States v. Currahee Club, LLC, et al., DJ #90-5-1-1-17458.

The proposed Consent Decree may be examined at the Clerk's Office, United States District Court for the Northern District of Georgia, United States Courthouse, 75 Spring Street, SW., Atlanta, Georgia. In addition, the proposed Consent Decree may be viewed at http://www.usdoj.gov/enrd/open.html.

Stephen Samuels,
Assistant Chief, Environmental Defense Section, Environment & Natural Resources Division.

[FR Doc. 06-6805 Filed 8-9-06; 8:45 am]

BILLING CODE 4410-15-M